DEPARTMENT OF HEALTH AND HUMAN SERVICES

Administration for Children and Families

Refugee Resettlement Program; Availability of Formula Allocation Funding for FY 2000 Targeted Assistance Grants for Services to Refugees in Local Areas of High Need

AGENCY: Office of Refugee Resettlement (ORR), ACF, HHS.

ACTION: Final notice of availability of formula allocation funding for FY 2000 targeted assistance grants to States for services to refugees in local areas of high need.

SUMMARY: This notice announces the availability of funds and award procedures for FY 2000 targeted assistance grants for services to refugees under the Refugee Resettlement Program (RRP). These grants are for service provision in localities with large refugee populations, high refugee concentrations, and high use of public assistance, and where specific needs exist for supplementation of currently available resources.

This notice continues the eligibility of those 50 counties located in 29 States that previously qualified for and received targeted assistance program (TAP) grants beginning in FY 1999 as a result of the three-year qualification process. The FY 2000 TAP formula allocations are based on the same formula as in FY 1999, updated to reflect arrivals during the five-year period from FY 1995 through FY 1999. The final notice reflects an adjustment in final allocations to States as a result of additional arrival data.

DATES: The closing date for submission of applications is September 5, 2000. Applications postmarked after the closing date will be classified as late.

SUPPLEMENTARY INFORMATION: A notice of proposed allocations to States of FY 2000 funds for targeted assistance was published in the Federal Register on May 1, 2000 (65 FR 25341).

The Paperwork Reduction Act of 1995 (Pub. L. 104-13)

Public reporting burden for this collection of information is estimated to average of four hours per response, including the time for reviewing instructions, gathering and maintaining the data needed and reviewing the collection information.

The project description is approved under OMB control number 0970-0139 which expires 10/31/2000.

An agency may not conduct or sponsor, and a person is not required to respond to, a collection of information unless it displays a currently valid OMB control number.

FOR FURTHER INFORMATION CONTACT: Gayle Smith, Director, Division of Refugee Self-Sufficiency, (202) 205-3590; email: gsmith@acf.dhhs.gov.

I. Purpose and Scope

This notice announces the availability of funds for grants for targeted assistance for services to refugees in counties where, because of factors such as unusually large refugee populations, high refugee concentrations, and high use of public assistance, there exists and can be demonstrated a specific need for supplementation of resources for services to this population.

The Office of Refugee Resettlement (ORR) has available $49,477,000 in FY 2000 funds for the targeted assistance program (TAP) as part of the FY 2000 appropriation for the Department of Health and Human Services (Pub. L. No. 106-113).

The Director of the Office of Refugee Resettlement (ORR) will use the $49,477,000 in targeted assistance funds as follows:

$44,529,300 will be allocated to States under the five-year population formula, as set forth in this notice.

$4,947,700 (10 percent of the total) will be used to award discretionary grants to States under a separate grant announcement.

The purpose of targeted assistance grants is to provide, through a process of local planning and implementation, direct services intended to result in the economic self-sufficiency and reduced welfare dependency of refugees through job placements.

The targeted assistance program reflects the requirements of section 412(c)(2)(B) of the Immigration and Nationality Act (INA), which provides that targeted assistance grants shall be made available “(i) primarily for the purpose of facilitating refugee employment and achievement of self-sufficiency, (ii) in a manner that does not supplant other refugee program funds and that assures that not less than 95 percent of the amount of the grant award is made available to the county or other local entity.”

II. Authorization

Targeted assistance projects are funded under the authority of section 412(c)(2) of the Immigration and Nationality Act (INA), as amended by the Refugee Assistance Extension Act of 1986 (Pub. L. No. 99-605), 8 U.S.C. 1522(c); section 501(a) of the Refugee Education Assistance Act of 1980 (Pub. L. No. 96-422), 8 U.S.C. 1522 note, insofar as it incorporates by reference with respect to Cuban and Haitian entrants the authorities pertaining to assistance for refugees established by section 412(c)(2) of the INA, as cited above; section 584(c) of the Foreign Operations, Export Financing, and Related Programs Appropriations Act, 1988, as included in the FY 1988 Continuing Resolution (Pub. L. No. 100-202), insofar as it incorporates by reference with respect to certain Amerasians from Vietnam the authorities pertaining to assistance for refugees established by section 412(c)(2) of the INA, as cited above, including certain Amerasians from Vietnam who are U.S. citizens, as provided under title II of the Foreign Operations, Export Financing, and Related Programs Appropriations Acts, 1989 (Pub. L. No. 100-461), 1990 (Pub. L. No. 101-167), and 1991 (Pub. L. No. 101-513).

III. Use of Funds

Targeted assistance funding must be used to assist refugee families to achieve economic independence in accordance with regulations at 45 CFR Part 400. The term “refugee” includes persons who meet all requirements of 45 CFR 400.43 (as amended by 65 FR 15409 (March 22, 2000)) and 45 CFR 401.2 (Cuban and Haitian entrants). In addition to the statutory requirement that TAP funds be used “primarily for the purpose of facilitating refugee employment” (section 412(c)(2)(B)(i)), funds awarded under this program are intended to help fulfill the Congressional intent that “employable refugees should be placed on jobs as soon as possible after their arrival in the United States” (section 412(a)(1)(B)(i) of the INA). Therefore, in accordance with 45 CFR 400.313, targeted assistance funds must be used primarily for employability services designed to enable refugees to obtain jobs with less than one year's participation in the targeted assistance program in order to achieve economic self-sufficiency as soon as possible. Under 45 CFR 400.316, a State may provide the same scope of services under targeted assistance as may be provided to refugees under 45 CFR 400.154 and 45 CFR 400.155, with the exception of 45 CFR 400.155(h). Targeted assistance services may continue to be provided after a refugee has entered a job to help the refugee retain employment or move to a better job. Targeted assistance funds may not be used for long-term training programs such as vocational training that last for more than a year or educational programs that are not intended to lead to employment within a year.

States may not provide services funded under this notice, except for referral and interpreter services, to refugees who have been in the United States for more than 60 months (five years). Specifically, States may not provide citizenship preparation services to refugees who have been in the United States for more than 60 months( five years) using targeted assistance funds.

In accordance with 45 CFR 400.314, States are required to provide targeted assistance services to refugees in the following order of priority, except in certain individual extreme circumstances: (a) Refugees who are cash assistance recipients, particularly long-term recipients; (b) unemployed refugees who are not receiving cash assistance; and (c) employed refugees in need of services to retain employment or to attain economic independence.

In accordance with 45 CFR 400.317, if targeted assistance funds are used for the provision of English language training, such training must be provided in a concurrent, rather than sequential, time period with employment or with other employment-related activities.

Refugees who are participating in TAP-funded or social services-funded employment services or have accepted employment are eligible for day care services for children. For an employed refugee, TAP-funded day care is limited to a maximum of one year after the refugee becomes employed. States and counties, however, are expected to use day care funding from other publicly funded mainstream programs as a prior resource and are encouraged to work with service providers to assure maximum access to other publicly funded resources for day care.

Reflecting section 412(a)(1)(A)(iv) of the INA, States must “ensure that women have the same opportunities as men to participate in training and instruction.” In addition, in accordance with 45 CFR 400.317, targeted assistance services must be provided, to the maximum extent feasible, in a manner that includes the use of bilingual/bicultural women on service agency staffs to ensure adequate service access by refugee women.

In accordance with 45 CFR 400.317, targeted assistance services must be provided in a manner that is culturally and linguistically compatible with a refugee's language and cultural background, to the maximum extent feasible. In light of the increasingly diverse population of refugees who are resettling in this country, refugee service agencies will need to develop practical ways of providing culturally and linguistically appropriate services to a changing ethnic population. Services funded under this notice must be refugee-specific services that are designed specifically to meet refugee needs and are in keeping with the rules and objectives of the refugee program. Vocational or job-skills training, on-the-job training, or English language training, however, need not be refugee-specific.

Finally, in order to provide culturally and linguistically compatible services in as cost-efficient a manner as possible in a time of limited resources, ORR strongly encourages States and counties to promote and give special consideration to the provision of services through coalitions of refugee service organizations, such as coalitions of Mutual Assistance Associations (MAAs), voluntary resettlement agencies, or a variety of service providers. ORR believes it is essential for refugee-serving organizations to form close partnerships in the provision of services to refugees in order to be able to respond adequately to a changing refugee picture. Coalition-building and consolidation of providers is particularly important in communities with multiple service providers in order to ensure better coordination of services and maximum use of funding for services by minimizing the funds used for multiple administrative overhead costs.

The award of funds to States under this notice will be contingent upon the completeness of a State's application as described in section VIII below.

IV. Discussion of Comments Received

ORR did not receive any comments in response to the notice of proposed FY 2000 allocations to States for targeted assistance.

V. Eligible Grantees

Eligible grantees are those agencies of State governments that are responsible for the refugee program under 45 CFR 400.5 in States containing counties that qualify for FY 2000 targeted assistance awards.

The Director of ORR determined the eligibility of counties for inclusion in the FY 2000 targeted assistance program on the basis of the method described in section VI of this notice.

The use of targeted assistance funds for services to Cuban and Haitian entrants are limited to States that have an approved State plan under the Cuban/Haitian Entrant Program (CHEP).

The State agency will submit a single application on behalf of all county governments that are qualified counties in that State. Subsequent to the approval of the State's application by ORR, local targeted assistance plans will be developed by the county government or other designated entity and submitted to the State.

A State with more than one qualified county is permitted, but not required, to determine the allocation amount for each qualified county within the State. However, if a State chooses to determine county allocations differently from those set forth in the final notice, in accordance with § 400.319, the FY 2000 allocations proposed by the State must be based on the State's population of refugees who arrived in the U.S. during the most recent five-year period. A State may use welfare data as an additional factor in the allocation of its targeted assistance funds if it so chooses; however, a State may not assign a greater weight to welfare data than it has assigned to population data in its allocation formula. In addition, if a State chooses to allocate its FY 2000 targeted assistance funds in a manner different from the formula set forth in this final notice, the FY 2000 allocations and methodology proposed by the State must be included in the State's application for ORR review and approval.

Applications submitted in response to this final notice are not subject to review by State and area-wide clearinghouses under Executive Order 12372, “Intergovernmental Review of Federal Programs.”

VI. Qualification and Allocation

A. Qualification

The Director of ORR will determine the qualification of counties for targeted assistance once every three years, as stated in the FY 1999 notice of proposed availability of targeted assistance allocations to States which was published in the Federal Register on March 10, 1999 (64 FR 11927). Since ORR determined the qualification of counties for targeted assistance in FY 1999, those qualifying counties determined eligible in FY 1999 and listed in this notice as qualified to apply for FY 2000 TAP funding will remain qualified for TAP funding through FY 2001 on the basis of the most current five-year refugee/entrant arrival data. ORR does not plan to consider the eligibility of additional counties for TAP funding until FY 2002, when ORR will again review data on all counties that could potentially qualify for TAP funds.

B. Allocation Formula

Of the funds available for FY 2000 for targeted assistance, $44,529,300 will be allocated by formula to States for qualified counties based on the initial placements of refugees, Amerasians, entrants (including Havana parolees), and Kurdish asylees in these counties during the five-year period from FY 1995 through FY 1999 (October 1, 1994-September 30, 1999). This is data that is available in the ORR Refugee Data System.

With regard to Havana parolees, for FY 1999, the Havana parolees for all counties are based on actual data. For previous years, the Havana parolees of Florida counties are based on actual data, while parolees from other counties are prorated based on each county's proportion of the four-year (FY 1995-1998) entrant population.

VII. Allocations

Table 1 lists the qualifying counties; the number of refugee (column 3) and entrant (column 4) arrivals in those counties during the five-year period from October 1, 1994-September 30, 1999; the number of Havana parolees (column 5) credited to each county during this period, the total number of arrivals; and the final amount of each county's allocation based on its five-year arrival population.

Table 1.—Final Targeted Assistance Allocations By County: FY 2000 is attached.

Table 2.—State totals for final targeted assistance allocations is attached.

VIII. Application and Implementation Process

States that are currently operating under approved management plans for their FY 1999 targeted assistance program and wish to continue to do so for their FY 2000 grants may provide the following in lieu of resubmitting the full currently approved plan:

The State's application for FY 2000 funding shall provide:

• Assurance that the State's current management plan for the administration of the targeted assistance program, as approved by ORR in FY 1999, will continue to be in full force and effect for the FY 2000 targeted assistance program, subject to any additional assurances or revisions required by this notice which are not reflected in the current plan. Any proposed modifications to the approved plan will be identified in the application and are subject to ORR review and approval, e.g., if the State assumes local administration of the program or if the State chooses to determine county allocations differently. Any proposed changes must address and reference all appropriate portions of the FY 1999 application content requirements to ensure complete incorporation in the State's management plan.

Budget and Budget Justification

• A line item budget and justification for State administrative costs limited to a maximum of five percent of the total award to the State. Each total budget period funding amount requested must be necessary, reasonable, and allocable to the project.

• Targeted assistance performance goals as described under Section IX.

IX. Results or Benefits Expected

All applicants must establish targeted assistance proposed performance goals for each of the six ORR performance outcome measures for each targeted assistance county's proposed service contract(s) or sub-grants for the next contracting cycle. Proposed performance goals must be included in the application for each performance measure. The six ORR performance measures are: entered employments, cash assistance reductions due to employment, cash assistance terminations due to employment, 90-day employment retentions, average wage at placement, and job placements with available health benefits. Targeted assistance program activity and progress achieved toward meeting performance outcome goals are to be reported quarterly on the ORR-6, the “Quarterly Performance Report.”

X. Reporting Requirements

States will be required to submit quarterly reports on the outcomes of the targeted assistance program, using the same form which States use for reporting on refugee social services formula grants. This is Schedule A and Schedule C, pages 1 and 2 of the ORR-6 Quarterly Performance Report form (OMB #0970-0036).

XI. The Paperwork Reduction Act of 1995 (Pub. L. 104-13)

This notice does not create any reporting or recordkeeping requirements requiring OMB clearance. The Uniform Project Description reads as follows:

OMB No. 0970-0139 Expires 10/31/00

ACF Uniform Project Description (UPD)

Part I—Table of Menu Options

Menu Option: Results or Benefits Expected

Menu Option: Budget and Budget Justification

Part II—The Project Description—Overview

Purpose

The project description provides a major means by which an application is evaluated and ranked to compete with other applications for available assistance. The project description should be concise and complete and should address the activity for which Federal funds are being requested. Supporting documents should be included where they can present information clearly and succinctly. Applicants are encouraged to provide information on their organizational structure, staff, related experience, and other information considered to be relevant. Awarding offices use this and other information to determine whether the applicant has the capability and resources necessary to carry out the proposed project. It is important, therefore, that this information be included in the application. However, in the narrative the applicant must distinguish between resources directly related to the proposed project from those that will not be used in support of the specific project for which funds are requested.

General Instructions

Cross-referencing should be used rather than repetition. ACF is particularly interested in specific factual information and statements of measurable goals in quantitative terms. Project descriptions are evaluated on the basis of substance, not length. Extensive exhibits are not required. (Supporting information concerning activities that will not be directly funded by the grant or information that does not directly pertain to an integral part of the grant funded activity should be placed in an appendix.) Pages should be numbered and a table of contents should be included for easy reference.

Part III—General Instructions for Preparing a Full Project Description

Introduction

Applicants required to submit a full project description shall prepare the project description statement in accordance with the following instructions.

Results or Benefits Expected

Identify the results and benefits to be derived. For example, when applying for a grant to establish a neighborhood child care center, describe who will occupy the facility, who will use the facility, how the facility will be used, and how the facility will benefit the community which it will serve.

Budget and Budget Justification

Provide line item detail and detailed calculations for each budget object class identified on the Budget Information form. Detailed calculations must include estimation methods, quantities, unit costs, and other similar quantitative detail sufficient for the calculation to be duplicated. The detailed budget must also include a breakout by the funding sources identified in Block 15 of the SF-424.

Provide a narrative budget justification that describes how the categorical costs are derived. Discuss the necessity, reasonableness, and allocability of the proposed costs.

(Catalog of Federal Domestic Assistance (CFDA) Number: 93.584)
Dated: July 27, 2000.
Lavinia Limón,
Director, Office of Refugee Resettlement.

Table 1.—Final Targeted Assistance Allocations by County: FY 2000
County and State | Refugees ¹ | Entrants | Havana parolees ² | Total arrivals FY 1995-1999 | Total FY 2000 final allocation
1. Maricopa County, Arizona | 8,929 | 818 | 514 | 10,261 | $1,211,318
2. Fresno County, California | 1,799 | 2 | 1 | 1,802 | 212,727
3. Los Angeles County, California | 13,313 | 351 | 390 | 14,054 | 1,659,084
4. Orange County, California | 8,367 | 24 | 19 | 8,410 | 992,806
5. Sacramento County, California | 11,646 | 4 | 7 | 11,657 | 1,376,117
6. San Diego County, California | 6,973 | 397 | 344 | 7,714 | 910,643
7. San Francisco, California | 6,288 | 33 | 34 | 6,355 | 750,212
8. Santa Clara County, California | 8,322 | 47 | 37 | 8,406 | 992,334
9. Yolo County, California | 1,341 | 5 | 3 | 1,349 | 159,250
10. Denver County, Colorado | 3,085 | 1 | 5 | 3,091 | 364,895
11. District of Columbia, District of Columbia | 3,626 | 15 | 14 | 3,655 | 431,475
12. Broward County, Florida | 790 | 1,421 | 1,287 | 3,498 | 412,941
13. Dade County, Florida | 7,885 | 26,710 | 38,238 | 72,833 | 8,597,986
14. Duval County, Florida | 4,239 | 21 | 51 | 4,311 | 508,916
15. Hillsborough County, Florida | 1,654 | 646 | 1,142 | 3,442 | 406,330
16. DeKalb County, Georgia | 7,902 | 12 | 9 | 7,923 | 935,315
17. Fulton County, Georgia | 5,145 | 196 | 153 | 5,494 | 648,570
18. Cook/Kane, Illinois | 15,790 | 368 | 298 | 16,456 | 1,942,642
19. Polk County, Iowa | 3,612 | 1 | 2 | 3,615 | 426,753
20. Jefferson County,³ Kentucky | 3,813 | 1,353 | 621 | 5,787 | 683,159
21. Hampden County, Massachusetts | 2,281 | 9 | 6 | 2,296 | 271,044
22. Suffolk County, Massachusetts | 4,285 | 53 | 59 | 4,397 | 519,069
23. Ingham County, Michigan | 1,927 | 647 | 290 | 2,864 | 338,097
24. Kent County, Michigan | 2,836 | 73 | 34 | 2,943 | 347,432
25. Hennepin County, Minnesota | 6,601 | 3 | 4 | 6,608 | 780,079
26. Ramsey County, Minnesota | 2,024 | 10 | 7 | 2,041 | 240,941
27. City of St. Louis, Missouri | 8,606 | 1 | 1 | 8,608 | 1,016,180
28. Lancaster County, Nebraska | 2,378 | 38 | 25 | 2,441 | 288,162
29. Clark County,⁴ Nevada | 1,566 | 1,261 | 867 | 3,694 | 436,079
30. Hudson County, New Jersey | 1,327 | 665 | 825 | 2,817 | 332,549
31. Bernalillo County, New Mexico | 1,051 | 1,006 | 827 | 2,884 | 340,458
32. Monroe County, New York | 2,730 | 833 | 452 | 4,015 | 473,973
33. New York, New York | 42,317 | 590 | 531 | 43,438 | 5,127,885
34. Oneida County, New York | 4,698 | 1 | 0 | 4,699 | 554,720
35. Guilford County, North Carolina | 2,430 | 7 | 10 | 2,447 | 288,870
36. Cass County, North Dakota | 1,791 | 3 | 2 | 1,796 | 212,019
37. Cuyahoga County, Ohio | 3,600 | 7 | 8 | 3,615 | 426,753
38. Multnomah, Oregon | 11,319 | 776 | 404 | 12,499 | 1,475,515
39. Erie County, Pennsylvania | 1,922 | 0 | 0 | 1,922 | 226,893
40. Philadelphia County, Pennsylvania | 4,833 | 44 | 37 | 4,914 | 580,101
41. Minnehaha County,⁵ South Dakota | 1,592 | 0 | 0 | 1,592 | 187,937
42. Davidson County, Tennessee | 3,248 | 54 | 42 | 3,344 | 394,761
43. Dallas/Tarrant, Texas | 11,248 | 525 | 485 | 12,258 | 1,447,065
44. Harris County, Texas | 8,525 | 348 | 137 | 9,010 | 1,063,636
45. Davis/Salt Lake, Utah | 5,135 | 1 | 3 | 5,139 | 606,662
46. Fairfax County, Virginia | 3,152 | 7 | 10 | 3,169 | 374,103
47. City of Richmond, Virginia | 2,310 | 103 | 72 | 2,485 | 293,356
48. King/Snohomish, Washington | 13,378 | 51 | 34 | 13,463 | 1,589,316
49. Pierce County, Washington | 2,421 | 10 | 7 | 2,438 | 287,808
50. Spokane County, Washington | 3,255 | 0 | 1 | 3,256 | 384,373
Total | 289,305 | 39,551 | 48,349 | 377,205 | 44,529,300
¹ Refugees include refugees, Kurdish asylees, and Amerasian immigrants from Vietnam.
² For FY 1999, the Havana parolees for all counties are based on actual data. For previous years, the Havana parolees of Florida counties are based on actual data, while parolees from other counties are prorated based on each county's proportion of the four-year (FY 1995-1998) entrant population.
³ The allocation for Jefferson County, Kentucky will be awarded to the Kentucky Wilson/Fish project.
⁴ The allocation for Clark County, Nevada will be awarded to the Nevada Wilson/Fish project.
⁵ The allocation for Minnehaha County, South Dakota will be awarded to the South Dakota Wilson/Fish project.

Table 2.—Targeted Assistance—Final Allocations by State: FY 2000
State | Amount
Arizona | $1,211,318
California | 7,053,173
Colorado | 364,895
District of Columbia | 431,475
Florida | 9,926,173
Georgia | 1,583,885
Illinois | 1,942,642
Iowa | 426,753
Kentucky | 683,159
Massachusetts | 790,113
Michigan | 685,520
Minnesota | 1,021,020
Missouri | 1,016,180
Nebraska | 288,162
Nevada | 436,079
New Jersey | 332,549
New Mexico | 340,458
New York | 6,156,578
North Carolina | 288,870
North Dakota | 212,019
Ohio | 426,753
Oregon | 1,475,515
Pennsylvania | 806,994
South Dakota | 187,937
Tennessee | 394,761
Texas | 2,510,701
Utah | 606,662
Virginia | 667,459
Washington | 2,261,497
Total FY 2000 allocation | 44,529,300

[FR Doc. 00-19649 Filed 8-2-00; 8:45 am]

BILLING CODE 4184-01-P